DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Legal Processes.

Form Numbers: None.

Agency Approval Number: 0651-00XX.

Type of Request: New Collection.

Burden: 28.2 hours.

Number of Respondents: 187 responses.

Avg. Hours Per Response: The USPTO estimates that it takes an average of 30 minutes to gather, prepare, and submit petitions to waive rules and requests, demands, or subpoenas for employee testimony or production of documents. It is also estimated to take 30 minutes to report unauthorized testimony and possible cases for indemnification to the Office of General Counsel. Additionally, the USPTO estimates that it takes an average of five minutes to ensure that a service of process has been properly served and ten minutes to ensure that the service of process or demands for employee testimony or documentation are forwarded to the proper authorities. Furthermore, it is estimated that it takes an average of one hour to request indemnification and to gather, prepare, and submit a claim under the Federal Tort Claims Act.

Needs and Uses: This collection of information supports a proposed rulemaking entitled “Legal Processes.” This information collection covers the public and current and former USPTO employees. The USPTO believes that the number of responses received from both current and former employees will be very small. The number of responses from the public is also expected to be very small except for the service of process. In the case of service of process, the principal effect of the rule is to provide an address for service. There are no forms associated with any of the information requirements contained in this collection. The public and current or former USPTO employees use this information collection as appropriate to petition the General Counsel to either waive or suspend a rule; to forward or receive summons; to seek testimony or documentation; to request employee indemnification; to report unauthorized testimony or possible indemnification cases; and to file a claim under the Federal Tort Claims Act. The USPTO uses the collected information to ensure that the proper procedures have been followed. The USPTO also uses this information to ensure that the release of testimony or documentation is authorized; to review the demands and claims filed; to determine whether the legal process rules can be suspended; to grant indemnification; and to determine whether the agency should settle or deny a claim filed under the Federal Torts Claim Act.

Affected Public: Individuals or households, businesses or other for-profit, not-for-profit institutions, farms, Federal government, and state, local or tribal government.

Frequency: On occasion.

Respondent's Obligation: Required to obtain or retain benefits.

OMB Desk Officer: David Rostker, (202) 395-3897.

Copies of the above information collection proposal can be obtained by calling or writing Susan Brown, Records Officer, Data Administration Division, Office of Data Management, United States Patent and Trademark Office, Crystal Park 3, 3rd Floor, Suite 310, Washington, DC, 20231, by phone at (703) 308-7400, or via the Internet at susan.brown@uspto.gov.

Written comments and recommendations for the proposed information collection should be sent within 30 days of publication to David Rostker, OMB Desk Officer, Room 10236, New Executive Office Building, 725 17th Street, NW., Washington, DC 20503.

Dated: December 11, 2000.
Susan K. Brown,
Records Officer, Data Administration Division, Office of Data Management.

[FR Doc. 00-32445 Filed 12-20-00; 8:45 am]

BILLING CODE 3510-16-P